NATIONAL CREDIT UNION ADMINISTRATION

[Catalog of Federal Domestic Assistance (CFDA) Number: 44.002]

Community Development Revolving Loan Fund

ACTION: Notice of Funding Opportunity (NOFO).

SUMMARY: The National Credit Union Administration (NCUA) is issuing this notice to announce the availability of funding for Low-Income Designated Credit Unions (LICUs) Applications for loans and technical assistance grants under the Community Development Revolving Loan Fund (CDRLF) program. The CDRLF program serves as a source of financial support in the form of loans and technical assistance grants that better enables LICUs to support the communities in which they operate. All loans and technical assistance grants from multi-year funds made under this NOFO are subject to funds availability and are at the NCUA's discretion.

DATES:

Table 1—FY 2018 CDRLF Program Application Dates
Initiative | Application periods | Deadline
General Grant Round | July 1-August 18 | 11:59 p.m. Eastern Time (ET).
Loan | Until Funds are Exhausted | N/A.

Table of Contents

A. Program Description

B. Federal Award Information

C. Eligibility Information

D. Application and Submission Information

E. Application Review Information

F. Federal Award Administration

G. Federal Awarding Agency

A. Program Description

1. Purpose

The purpose of the CDRLF program is to assist LICUs in providing basic financial services to their members to stimulate economic activities in their communities. Through the CDRLF program, the NCUA provides financial support in the form of loans and technical assistance grants to LICUs serving predominantly low-income members. These funds help improve and expand the availability of financial services to these members. The CDRLF program consists of Congressional appropriations that are administered by the NCUA.

The NCUA will accept applications from LICUs for the initiatives referenced in Table 2. The financial awards may be used for projects that support the efforts of credit unions providing basic financial and related services to residents in their communities; enhancing their capacity to better serve their members and the communities in which they operate.

Table 2—FY 2018 CDRLF Program Initiatives
Initiative Names:
Digital Services and Security (General Grant Round).
Leadership Development (General Grant Round).
Underserved Outreach (General Grant Round).
Low-Cost Loan.

More detailed information about the CDRLF program, including the types of initiatives for the grant round, amount of funds available, funding priorities, permissible uses of funds, funding limits, deadlines and other pertinent details, are periodically published in NCUA Letters to Credit Unions, in NCUA press releases and on the NCUA website at https://www.ncua.gov/services/Pages/resources-expansion/grants-loans.aspx.

2. Regulations and Authority

Part 705 of the NCUA's regulations implements the CDRLF program. 12 CFR 705. A revised Part 705 was published on November 25, 2016. 81 FR 85112. Additional requirements are found at 12 CFR 701 and 741. Applicants should review these regulations in addition to this NOFO. Each capitalized term in this NOFO is more fully defined in the regulations, program guidelines, and other application materials. For the purposes of this NOFO, an Applicant is a Qualifying Credit Union that submits a complete Application to the NCUA under the CDRLF program. The NCUA will consider requests for funds consistent with the purpose of the CDRLF program. 12 CFR 705.1.

Authority: 12 U.S.C. 1756, 1757(5)(D), and (7)(I), 1766, 1782, 1784, 1785 and 1786; 12 CFR 705.

B. Federal Award Information

The NCUA expects to award approximately $2 million in grants through this NOFO. Approximately $5.3 million will be available for loans under this NOFO, derived from prior-year appropriated and earned funds. Monies for additional loans come from scheduled loan amortizations. The NCUA reserves the right to: (i) Award more or less than the amounts cited above; (ii) fund, in whole or in part, any, all, or none of the applications submitted in response to this NOFO; and (iii) reallocate funds from the amount that is anticipated to be available under this NOFO to other programs, particularly if the NCUA determines that the number of awards made under this NOFO is fewer than projected.

Table 3 includes specific information about the funding available, maximum award amounts, and application window for each CDRLF program initiative. The specific terms and conditions governing a CDRLF award will be established in the grant or loan agreement each Participating Credit Union must sign prior to disbursement of funds.

Table 3—FY 2018 CDRLF Program Initiatives and Amounts
Initiative | Maximum award amount | Application start date | Application end date | Total funding available (million)
General Grant Round:
1. Digital Services and Security | $10,000 | July 1, 2018, 9:00 a.m. ET | August 18, 2018, 11:59 p.m. ET | $2
2. Leadership Development | 10,000 |  |  |
3. Underserved Outreach | 20,000 |  |  |
Loan | 500,000 | Open until funds are exhausted |  | 5.3

1. Additional Loan Initiative Information

The following are the general loan terms under the CDRLF program.

a. Maximum Loan Amount: The NCUA makes loans based on the financial condition of the credit union. The applicable regulation does not provide a maximum limit on loan applications for consideration, but in practice the NCUA discourages loan applications of higher than $500,000 to mitigate risk. There is no minimum loan amount. The amount of the loan will be based on the following factors:

• Funds availability;

• Credit worthiness of the credit union;

• Financial need;

• Demonstrated capability of credit union to provide financial and related services to its members; and

• Concurrence from the NCUA Regional Office and if applicable, the State Supervisory Authority (SSA)

b. Maturity: Loans will generally mature in five years. A credit union may request a shorter loan period, but in no case will the term exceed five years.

c. Interest: The interest rate on loans is governed by the Loan Interest Rate Policy, which can be found on the NCUA's website at https://www.ncua.gov/services/Documents/interest-rate-policy.pdf. CDRLF loans are generally offered at a fixed rate for the full term.

d. Repayment: All loans must be repaid to the NCUA regardless of how they are accounted for by the Participating Credit Union.

1. Principal: The entire principal is due at maturity.

2. Interest: Interest is due in semi-annual payments beginning six months after the initial distribution of the loan.

3. Principal Prepayment: There is no penalty for principal prepayment. Principal prepayments may be made as often as monthly.

C. Eligibility Information

1. Eligible Applicants

This NOFO is open to credit unions that meet the compliance requirements specified in 12 CFR 705. A credit union must have a Low-Income Credit Union (LICU) designation, or equivalent in the case of a Qualifying State-chartered Credit Union, in order to participate in the CDRLF program. Requirements for obtaining the designation are found at 12 CFR 701.34.

2. Matching Funds (Only Applicable to Loan Applicants)

Part 705.5(g) of the NCUA's regulations describe the overall requirements for matching funds. The NCUA, in its sole discretion, may require matching funds of an Applicant, on a case-by-case basis depending on the financial condition of the Applicant. The NCUA anticipates that most Applicants will not be required to obtain matching funds. However, each Applicant should address in the Application its strategy for raising matching funds if the NCUA determines matching funds are required (see 12 CFR 705 and the Application for additional information).

a. Matching Funds Requirements: The specific terms and covenants pertaining to any matching funds requirement will be provided in the loan agreement of the Participating Credit Union. Following, are general matching fund requirements. The NCUA, in its sole discretion, may amend these requirements depending upon its evaluation of the Applicant, but in no case will the amended requirements be greater than the conditions listed below.

i. The amount of matching funds required must generally be in an amount equal to the loan amount.

ii. Matching funds must be from non-governmental member or nonmember share deposits.

iii. Any loan monies matched by nonmember share deposits are not subject to the 20% limitation on nonmember deposits under § 701.32 of the NCUA's regulations.

iv. Participating Credit Unions must maintain the outstanding loan amount in the total amount of share deposits for the duration of the loan. Once the loan is repaid, nonmember share deposits accepted to meet the matching requirement are subject to § 701.32 of the NCUA's regulations.

b. Criteria for Requiring Matching Funds: The NCUA will use the following criteria to determine whether to require an Applicant to have matching funds as a condition of its loan.

• CAMEL Composite Rating

• CAMEL Management Rating

• CAMEL Asset Quality Rating

• Regional Director Concurrence

• Net Worth Ratio

c. Documentation of Matching Funds: The NCUA may contact the matching funds source to discuss the matching funds and the documentation that the Applicant has provided. If the NCUA determines that any portion of the Applicant's matching funds is ineligible under this NOFO, the NCUA, in its sole discretion, may permit the Applicant to offer alternative matching funds as a substitute for the ineligible matching funds. In this case, the Applicant must provide acceptable alternative matching funds documentation within 10 business days of the NCUA's request.

3. Other Eligibility Requirements

a. Financial Viability: Applicants must meet the underwriting standards established by the NCUA, including those pertaining to financial viability, as set forth in the application and found in 12 CFR 705.7(c).

b. Compliance With Past Agreements: In evaluating funding requests under this NOFO, the NCUA will consider an Applicant's record of compliance with past agreements. The NCUA, in its sole discretion, will determine whether to consider an Application from an Applicant with a past record of noncompliance, including any deobligation (i.e. removal of unused awards) of funds.

i. Default Status: If an Applicant is in default of a previously executed agreement with the NCUA, the NCUA will not consider an Application for funding under this NOFO.

ii. Undisbursed Funds: If an Applicant is a prior awardee under the CDRLF program and has unused grant awards as of the date of Application, the NCUA will request a narrative from the Applicant that addresses the reason for its record of noncompliance. The NCUA, in its sole discretion, will determine whether the reason is sufficient to proceed with the review of the Application.

D. Application and Submission Information

1. Application Form

The application and related documents can be found on the NCUA's website at https://www.ncua.gov/services/Pages/resources-expansion/grants-loans.aspx.

2. Minimum Application Content

A complete Application will consist of similar components for each CDRLF program initiative. At a minimum, each initiative requires a narrative response that describes how the CDRLF award will be used by the Applicant. The NCUA reserves the right to waive this requirement for initiatives deemed to be satisfactory without a written description. If an initiative does not require a narrative response, the NCUA will explain this in the program guidelines.

a. Data Universal Numbering System: The Data Universal Numbering System (DUNS) number is a unique nine-character number used to identify your organization. The federal government uses the DUNS number to track how federal money is allocated. Applicants can obtain a DUNS number by visiting the Dun & Bradstreet (D&B) website or calling 1-866-705-5711 to register or search for a DUNS number. Registering for a DUNS number is FREE. The NCUA will not consider an Application that does not include a valid DUNS number issued by Dun and Bradstreet (D&B). Such an Application will be deemed incomplete and will be declined.

b. System for Award Management: All Applicants are required by federal law to have an active registration with the federal government's System for Award Management (SAM) prior to applying for funding. SAM is a web-based, government-wide application that collects, validates, stores, and disseminates business information about the Federal Government's trading partners in support of the contract awards, grants, and electronic payment processes. Applicants can register by visiting www.sam.gov. An active SAM account status and CAGE number is required to apply for the NCUA's CDRLF programs. The SAM registration process is FREE. Applicants that have an existing registration with SAM must recertify and maintain an active status annually. The NCUA will not consider an Applicant that does not have an active SAM status. Such an Application will be deemed incomplete and will be declined.

c. Employer Identification Number: Each Application must include a valid and current Employer Identification Number (EIN) issued by the U.S. Internal Revenue Service (IRS). The NCUA will not consider an Application that does not include a valid and current EIN. Such an Application will be deemed incomplete and will be declined. Information on how to obtain an EIN may be found on the IRS's website at www.irs.gov.

d. Large Loans: An Applicant requesting a loan in excess of $300,000 is required to complete an online application form that contains additional narrative comments to support the request. In addition, the NCUA may also require a business plan.

i. The business plan must: Describe the community's need for financial products and services and the Applicant's need for funding; summarize the services, financial products, and services provided by the Applicant; describe the Applicant's involvement with other entities; describe the credit union's marketing strategy to reach members and the community; and include financial projections.

e. Non-Federally Insured Applicants:Each Applicant that is a non-federally insured, state-chartered credit union must submit additional application materials. These additional materials are more fully described in § 705.7(b) (3) of the NCUA's regulations and in the Application.

i. Examination by the NCUA: Non-federally insured, state-chartered credit unions must agree to be examined by the NCUA. The specific terms and covenants pertaining to this condition will be provided in the loan or grant agreement of the Participating Credit Union.

3. Submission Dates and Times

The application period for each CDRLF program initiative is highlighted in Table 4. Applications must be submitted online in the NCUA's web-based application system, CyberGrants, by the deadline in order to be considered. Late Applications will not be considered under any circumstance.

Table 4—Application Submission Dates and Times
Initiative | Application start date | Application end date
Grant—Digital Services and Security Grant—Leadership Development Grant—Underserved Outreach | July 1, 2018, 9:00 a.m. ET | August 18, 2018, 11:59 p.m. ET.
Loan | Open All Year Round Until Funds are Exhausted.

4. Other Submission Requirements

Under this NOFO, Applications must be submitted online at http://www.cybergrants.com/ncua/applications.

E. Application Review Information

1. Review and Selection Process for Loans

a. Eligibility and Completeness Review: The NCUA will review each Application to determine whether it is complete and that the Applicant meets the eligibility requirements described in the Regulations and in this NOFO. An incomplete Application or one that does not meet the eligibility requirements will be declined without further consideration.

b. Substantive Review: After an Applicant is determined eligible and its Application is determined complete, the NCUA will conduct a substantive review in accordance with the criteria and procedures described in the Regulations. The NCUA reserves the right to contact the Applicant during its review for the purpose of clarifying or confirming information contained in the Application. If so contacted, the Applicant must respond within the time specified by the NCUA or the NCUA, in its sole discretion, may decline the application without further consideration.

c. Evaluation: The evaluation criteria are more fully described in § 705.7(c) of the NCUA's regulations. The NCUA will evaluate each Application that receives a substantive review on the four criteria described in the regulation, this NOFO and the applicable guideline: Financial performance, compatibility, feasibility, and examination information and applicable concurrence. Each initiative, due to its structure and impact, have varying degrees of evaluation criteria assigned which are reflected in the guidelines for credit union's information. Overall, the evaluation strategy consists of the following which may be reduced or increased based on award amount, initiative and/or risk.

i. Assessment of Impact: The Compatibility criteria will take into consideration the extent of community need and projected impact of the funding on the Applicant's members and community.

ii. Effective Strategy: The Feasibility criteria will take into consideration the quality of the Applicant's strategy and its capacity to execute the strategy as demonstrated by its past performance, partnering relationships, and other relevant factors.

iii. Evaluating Prior Award Performance: For prior participants of the CDRLF program, loans may not be awarded if the participant: (1) Is noncompliant with any active award; (2) failed to make timely loan payments to the NCUA during fiscal years prior to the date of Application; and (3) had an award deobligated (i.e. removal of unused awarded funds) during fiscal years prior to the date of Application.

d. Examination Information and Applicable Concurrence: The NCUA will not approve an award to a credit union for which it's NCUA regional examining office or SSA, if applicable, indicates it has safety and soundness concerns. If the NCUA regional office or SSA identifies a safety and soundness concern, the NCUA, in conjunction with the regional office or SSA, will assess whether the condition of the Applicant is adequate to undertake the activities for which funding is requested, and the obligations of the loan and its conditions. The NCUA, in its sole discretion, may defer decision on funding an Application until the credit union's safety and soundness conditions improve.

e. Funding Selection: The NCUA will make its funding selections based on a consistent scoring tier for each Applicant. The NCUA will consider the impact of the funding. In addition, the NCUA may consider the geographic diversity of the Applicants in its funding decisions. When loan demand is high, Applications will be ranked based on the aforementioned.

2. Review and Selection Process for Grants

a. Eligibility and Completeness Review: The NCUA will review each Application to determine whether it is complete and that the Applicant meets the eligibility criteria described in the Regulations, this NOFO, and the grant guidelines. An incomplete Application or one that does not meet the eligibility criteria will be declined without further consideration.

b. Substantive Review: After an Applicant is determined eligible and its Application is determined complete, the NCUA will conduct a substantive review in accordance with the criteria and procedures described in the Regulations, this NOFO, and the grant guidelines. The NCUA reserves the right to contact the Applicant during its review for the purpose of clarifying or confirming information contained in the Application. If so contacted, the Applicant must respond within the time specified by the NCUA or the NCUA, in its sole discretion, may decline the Application without further consideration.

c. Evaluation and Scoring: The evaluation criteria for each initiative is fully described in the grant guidelines.

d. Input from Examiners: The NCUA may not approve an award to a credit union for which it's NCUA regional examining office or State Supervisory Agency (SSA), if applicable, indicates it has safety and soundness concerns. If the NCUA regional office or SSA identifies a safety and soundness concern, CURE, in conjunction with the regional office or SSA, will assess whether the condition of the Applicant is adequate to undertake the activities for which funding is requested, and the obligations of the grant and its conditions. The NCUA, in its sole discretion, may defer decision on funding an Application until the credit union's safety and soundness conditions improve.

e. Award Selection: The NCUA will make its award selections based on a consistent scoring system where each Applicant will receive a ranking position. The NCUA will also consider the impact of funding and rank Applications based on the factors listed in the grant guidelines.

F. Federal Award Administration

1. Federal Award Notices

The NCUA will notify each Applicant of its funding decision by email. In addition, the NCUA will publish a press release and post on its website a list of the successful awardees for grants. Additional instructions for post-award activities will be provided by email and in other post-award materials. Applicants that are approved for funding will also receive instructions on how to proceed with disbursement of the award.

2. Administrative and National Policy Requirements

The specific terms and conditions governing a CDRLF award will be established in the program guidelines for each initiative.

a. Grant Agreement: Each Participating Credit Union under this NOFO must enter into agreement with the NCUA before the NCUA will disburse the grant funds. The Agreement will include the terms and conditions of funding, including but not limited to the: (i) Award amount; (ii) grant award details; (iii) roles and responsibilities; (iv) accounting treatment; (v) signature pages; and (vi) reporting requirements.

b. Loan Agreement: Each Participating Credit Union under this NOFO must enter into agreement with the NCUA before the NCUA will disburse the award funds. The agreement documents include, for example, a promissory note, loan agreement, repayment schedule, and security agreement (if applicable). The Agreement will include the terms and conditions of funding, including but not limited to the: (i) Award amount; (ii) interest rate; (iii) repayment requirements; (iv) accounting treatment; (v) impact measures; and (vi) reporting requirements.

c. Failure to Sign Agreement: The NCUA, in its sole discretion, may rescind an award if the Applicant fails to sign and return the agreement or any other requested documentation, within the time specified by the NCUA.

d. Multiple Disbursements: The NCUA may determine, in its sole discretion, to fund a loan in multiple disbursements. In such cases, the process for disbursement will be specified by the NCUA in the Loan Agreement.

3. Reporting

a. Loans: The reporting requirements are more fully described in § 705.9 of the NCUA's regulations. Annually, each Participating Credit Union will submit a report to the NCUA. The report will address the Participating Credit Union's use of the loan funds; the impact of funding; and explanation of any failure to meet objectives for use of proceeds, outcome, or impact. The NCUA, in its sole discretion, may modify these requirements. However, such reporting requirements will be modified only after notice to affected credit unions.

Report Form: Applicable credit unions will be notified regarding the submission of the report form. A Participating Credit Union is responsible for timely and complete submission of the report. The NCUA will use such information to monitor each Participating Credit Union's compliance with the requirements of its loan agreement and to assess the impact of the CDRLF loan.

b. Grants: All successful Applicants are responsible for the timely and complete submission of the post-grant award activities. This includes, but it is not limited to, signing the grant agreement, submitting a project status update, and completing a reimbursement request.

Successful Applicants must submit a reimbursement request in order to receive the awarded funds. The reimbursement requirements are specific to each initiative. In general, the reimbursement request will require evidence of expenses, project related documentation, a summary of project accomplishments and outcomes, and a certification form signed by a credit union official (e.g., CEO, manager, or Board Chairperson) authorized to request the reimbursement and make the certifications. The NCUA, in its sole discretion, may modify these requirements. In general, successful Applicants are required to submit the reimbursement request within the expiration date specified in the approval letter.

G. Agency Contacts

1. Methods of Contact

Further information can be found at https://www.ncua.gov/services/Pages/resources-expansion/grants-loans.aspx. For questions email: National Credit Union Administration, Office of Credit Union Resources and Expansion at CUREAPPS@ncua.gov.

2. Information Technology Support

People who have visual or mobility impairments that prevent them from using the NCUA's website should call (703) 518-6610 for guidance (this is not a toll free number).

By the National Credit Union Administration Board on May 24, 2018.
Gerard Poliquin,
Secretary of the Board.

[FR Doc. 2018-11689 Filed 5-30-18; 8:45 am]

BILLING CODE P